DEPARTMENT OF HOMELAND SECURITY

Federal Emergency Management Agency

44 CFR Part 67

[Docket No. FEMA-D-7676]

Proposed Flood Elevation Determinations

AGENCY: Federal Emergency Management Agency (FEMA), Department of Homeland Security, Mitigation Division.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, 500 C Street SW., Washington, DC 20472, (202) 646-3151.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD). +Elevation in feet (NAVD). # Depth in feet above ground: Effective | * Elevation in feet (NGVD). +Elevation in feet (NAVD). # Depth in feet above ground: Modified | Communities affected
Alexander County, North Carolina and Incorporated Areas
Beaver Branch | At the confluence with Lambert Creek | None | +1,087 | Unincorporated Areas of Alexander County.
| Approximately 500 feet upstream of SR 1307 | None | +1,161 |
Big Branch | At the confluence with Elk Shoals Creek | None | +894 | Unincorporated Areas of Alexander County.
| Approximately 600 feet upstream of SR 1619 | None | +1,057 |
Catawba River | Approximately 1.0 mile upstream of the confluence of Elk Shoals Creek | None | +848 | Unincorporated Areas of Alexander County.
| At the Alexander/Caldwell County boundary | None | +936 |
Duck Creek | At the confluence of Middle Little River | None | +1,036 | Unincorporated Areas of Alexander County.
| At the confluence with Holsclaw Creek | None | +1,157 |
Elk Shoals Creek | Approximately 0.5 mile upstream of the confluence with Catawba River | None | +848 | Unincorporated Areas of Alexander County.
| Approximately 400 feet upstream of SR 1631 | None | +989 |
Tributary 1 | At the confluence with Elk Shoals Creek | None | +883 | Unincorporated Areas of Alexander County.
| Approximately 0.5 mile upstream of the confluence with Elk Shoals Creek | None | +896 |
Tributary 2 | At the confluence with Elk Shoals Creek | None | +889 | Unincorporated Areas of Alexander County.
| Approximately 0.5 mile upstream of the confluence of Elk Shoals Creek | None | +903 |
Glade Creek | At the confluence with Lower Little River | None | +901 | Unincorporated Areas of Alexander County.
| Approximately 900 feet upstream of Rogers Lake Dam Upper | None | +1,195 |
Tributary 1 | At the confluence with Glade Creek | None | +1,015 | Unincorporated Areas of Alexander County, Town of Taylorsville.
| Approximately 0.8 mile upstream of SR 1607 | None | +1,093 |
Grassy Creek | At the confluence with Lower Little River | None | +1,093 | Unincorporated Areas of Alexander County.
| Approximately 1,050 feet upstream of the confluence of Grassy Creek Tributary 2 | None | +1,185 |
Tributary 1 | At the confluence with Grassy Creek | None | +1,098 | Unincorporated Areas of Alexander County.
| Approximately 0.7 mile upstream of the confluence with Grassy Creek | None | +1,122 |
Tributary 2 | At the confluence with Grassy Creek | None | +1,182 | Unincorporated Areas of Alexander County.
| Approximately 0.7 mile upstream of SR 16 | None | +1,211 |
Guys Branch | At the confluence with Elk Shoals Creek | None | +906 | Unincorporated Areas of Alexander County.
| Approximately 0.5 mile upstream of the confluence with Elk Shoals Creek | None | +922 |
Holsclaw Creek | At the confluence with Duck Creek | None | +1,157 | Unincorporated Areas of Alexander County.
| Approximately 0.9 mile upstream of SR 1302 | None | +1,238 |
Isaac Creek | At the confluence with Upper Little River | None | +936 | Unincorporated Areas of Alexander County.
| Approximately 0.7 mile upstream of SR 1143 | None | +957 |
Island Creek | At the confluence with Catawba River | None | +851 | Unincorporated Areas of Alexander County.
| Approximately 0.4 mile upstream of SR 1621 | None | +875 |
Jumping Run | At the confluence with Rock Creek | None | +983 | Unincorporated Areas of Alexander County.
| Approximately 600 feet upstream of SR 127 | None | +1,099 |
Lambert Creek | At the confluence with Lower River | None | +1,087 | Unincorporated Areas of Alexander County.
| Approximately 700 feet upstream of confluence of Poplar Creek | None | +1,180 |
Tributary 1 | At the confluence with Lambert Creek | None | +1,113 | Unincorporated Areas of Alexander County.
| Approximately 800 feet upstream of SR 1307 | None | +1,174 |
Lower Little River | At the confluence with Catawba River | None | +852 | Unincorporated Areas of Alexander County.
| Approximately 0.6 mile upstream of SR 1332 | None | +1,130 |
Tributary 1 | At the confluence with Lower Little River | None | +865 | Unincorporated Areas of Alexander County.
| Approximately 1.9 miles upstream of the confluence with Lower Little River | None | +973 |
Tributary 2 | At the confluence with Lower Little River | None | +983 | Unincorporated Areas of Alexander County.
| Approximately 1,600 feet upstream of SR 1124 | None | +1,100 |
Tributary 2A | At the confluence with Lower Little River Tributary 2 | None | +1,085 | Unincorporated Areas of Alexander County.
| Approximately 1,650 feet upstream of the confluence with Lower Little River Tributary 2 | None | +1,122 |
Tributary 3 | At the confluence with Lower Little River | None | +995 | Unincorporated Areas of Alexander County.
| Approximately 1.4 miles upstream of SR 1110 | None | +1,093 |
Tributary 4 | At the confluence with Lower Little River | None | +1,022 | Unincorporated Areas of Alexander County, Town of Taylorsville.
| Approximately 1,000 feet upstream of School Drive | None | +1,163 | Town of Taylorsville.
Middle Little River | Approximately 300 feet downstream of SR 1137 | None | +935 | Unincorporated Areas of Alexander County.
| At the Alexander/Caldwell County boundary | None | +1,295 |
Tributary 2 | At the confluence with Middle Little River | None | +1,030 | Unincorporated Areas of Alexander County.
| Approximately 0.7 mile upstream of the confluence with Middle Little River | None | +1,036 |
Mountain Creek | Approximately 0.8 mile upstream of the confluence with Middle Little River | +935 | +936 | Unincorporated Areas of Alexander County.
| Approximately 200 feet upstream of SR 1150 | None | +1,057 |
Muddy Fork Creek | At the confluence with Lower Little River | None | +1,063 | Unincorporated Areas of Alexander County, Town of Taylorsville.
| Approximately 1.3 miles upstream of SR 1409 | None | +1,108 |
Tributary 1 | At the confluence with Muddy Fork Creek | None | +1,076 | Unincorporated Areas of Alexander County, Town of Taylorsville.
| Approximately 1.6 miles upstream of Old Wikesboro Road | None | +1,181 | Town of Taylorsville
Poplar Creek | At the confluence with Lambert Creek | None | +1,176 | Unincorporated Areas of Alexander County.
| Approximately 0.5 mile upstream of SR 1305 | None | +1,199 |
Rock Creek | At the confluence with Middle Little River | None | +957 | Unincorporated Areas of Alexander County.
| At the confluence of Jumping Run | None | +983 |
Tributary 1 | At the confluence with Rock Creek | None | +957 | Unincorporated Areas of Alexander County.
| Approximately 1,000 feet upstream of the confluence with Rock Creek | None | +958 |
Spring Creek | At the confluence with Lower Little River | None | +1,047 | Unincorporated Areas of Alexander County.
| Approximately 1.7 miles upstream of SR 1121 | None | +1,121 |
Stirewalt Creek | At the confluence with Lower Little River | None | +983 | Unincorporated Areas of Alexander County.
| Approximately 750 feet upstream of East Main Avenue | None | +1,241 | Town of Taylorsville.
Upper Little River | At the confluence with Catawba River | None | +936 | Unincorpoated Areas of Alexander County.
| Approximately 1,600 feet upstream of Alexander/Caldwell County boundary | None | +971 |
White Creek | At the confluence with Holsclaw Creek | None | +1,157 | Unincorporated Areas of Alexander County.
| Approximately 0.9 mile upstream of SR 1303 | None | +1,270 |
* National Geodetic Vertical Datum.
# Depth in feet above ground.
+ North American Vertical Datum.
ADDRESSES
Town of Taylorsville:
Maps are available for inspection at the Alexander County Planning and Inspection Office, 332 1st Avenue Southwest, Taylorsville, North Carolina.
Send comments to The Honorable Guy Barriger, Mayor of the Town of Taylorsville, 67 Main Avenue Drive, Taylorsville, North Carolina 28681.
Unincorporated Areas of Alexander County
Maps are available for inspection at the Alexander County Planning and Inspection Office, 332 1st Avenue Southwest, Taylorsville, North Carolina.
Send comments to Mr. Larry Yoder, Chairman of the Alexander County Board of Commissioners, 621 Liledoun Road, Taylorsville, North Carolina 28681.
Avery County, North Carolina and Incorporated Areas
Anthony Creek | Approximately 140 feet upstream of Anthony Creek Road (SR 1362) | None | +1,720 | Avery County (Unincorporated Areas).
| Approximately 1,100 feet upstream of Anthony Creek Road (SR 1362) | None | +1,753
Bill White Creek | At the confluence with Linville River | None | +3,274 | Avery County (Unincorporated Areas).
| Approximately 1.2 miles upstream of the confluence with Linville River | None | +3,331
Cary Flat Branch | At the confluence with Wilson Creek | None | +2,047 | Avery County (Unincorporated Areas).
| Approximately 720 feet upstream of the confluence with Wilson Creek | None | +2,057
Clark Branch | At the confluence with Mill Timber Creek | None | +3,325 | Avery County (Unincorporated Areas).
| Approximately 0.7 mile upstream of East Crossnore Drive | None | +3,362
Crossnore Creek | At the confluence with Mill Timber Creek | None | +3,323 | Avery County (Unincorporated Areas), Town of Crossnore.
| Approximately 60 feet downstream of Henson Street | None | +3,408
Gragg Prong Creek | At the confluence with Lost Cove Creek | None | +1,702 | Avery County (Unincorporated Areas).
| Approximately 1,350 feet upstream of the confluence with Webb Creek | None | +2,199
Harper Creek | At the Avery/Caldwell County boundary | None | +1,800 | Avery County (Unincorporated Areas).
| At the confluence of South Harper and North Harper Creeks | None | +1,816
Hull Branch | At the confluence of South Harper Creek | None | +2,279 | Avery County (Unincorporated Areas).
| Approximately 450 feet upstream of the confluence with South Harper Creek | None | +2,285
Linville River (downstream) | Approximately 0.3 mile downstream of the Avery/Burke County boundary | None | +3,206 | Avery County (Unincorporated Areas).
| Approximately 1.1 miles upstream of River Road | +3,576 | +3,573
Linville River (upstream) | Approximately 50 feet downstream of Highland Mist Road | None | +3,695 | Avery County (Unincorporated Areas).
| At the confluence of Big Grassy Creek | None | +3,834
Lost Cove Creek | At the Avery/Caldwell County boundary | None | +1,580 | Avery County (Unincorporated Areas).
| Approximately 2.1 miles upstream of the confluence with Gragg Prong Creek | None | +1,947
Mill Timber Creek | At the confluence with Linville River | None | +3,315 | Avery County (Unincorporated Areas).
| Approximately 150 feet downstream of U.S. 221 | None | +3,362 |
Rockhouse Creek | At the confluence with Lost Cove Creek | None | +1,580 | Avery County (Unincorporated Areas).
| Approximately 0.5 mile upstream of the Avery/Caldwell County boundary | None | +1,639
South Harper Creek | At the confluence with Harper Creek | None | +1,816 | Avery County (Unincorporated Areas).
| Approximately 320 feet upstream of the confluence of Hull Branch | None | +2,284
Stamey Branch | At the confluence with Linville River | None | +3,263 | Avery County (Unincorporated Areas).
| Approximately 0.6 mile upstream of the confluence with Linville River | None | +3,281
Webb Creek | At the confluence with Gragg Prong Creek |  | +2,172 | Avery County (Unincorporated Areas).
| Approximately 475 feet upstream of Webb Creek Road | None | +2,396
West Fork Linville River | Approximately 670 feet upstream of Joe Hartley Road | None | +3,684 | Avery County (Unincorporated Areas).
| Approximately 0.4 mile upstream of Joe Hartley Road | None | +3,712
Wilson Creek | At the Avery/Caldwell County boundary | None | +1,670 | Avery County (Unincorporated Areas).
| Approximately 500 feet upstream of the confluence with Cary Flat Branch | None | +2,056
* National Geodetic Vertical Datum.
# Depth in feet above ground.
+ North American Vertical Datum.
ADDRESSES
Avery County (Unincorporated Areas)
Maps are available for inspection at the Avery County Courthouse, 100 Montezuma Street, Newland, North Carolina.
Send comments to Mr. Kenny Poteat, Chairman of the Avery County Board of Commissioners, P.O. Box 640, Newland, North Carolina 28657.
Burke County, North Carolina and Incorporated Areas
Back Creek | At the confluence with Irish Creek | None | +1,116 | Unincorporated Areas of Burke County.
| Approximately 0.5 mile upstream of the confluence with Irish Creek | None | +1,135
Bailey Fork | Approximately 0.8 mile upstream of I-40 | None | +1,036 | Unincorporated Areas of Burke County, City of Morganton.
| Approximately 100 feet downstream of U.S. 64 | None | +1,047
Bristol Creek | At the confluence with Lower Creek | None | +1,019 | Unincorporated Areas of Burke County.
| Approximately 200 feet downstream of Burke/Caldwell County boundary | None | +1,144
Tributary 1 | At the confluence with Bristol Creek | None | +1,019 | Unincorporated Areas of Burke County.
| Approximately 0.4 mile upstream of the confluence with Bristol Creek | None | +1,019
Camp Creek | At Burke/Catawba County boundary | None | +1,020 | Unincorporated Areas of Burke County.
| Approximately 800 feet upstream of Burke/Catawba County boundary | None | +1,023
Canoe Creek | At the confluence with Catawba River | +1,023 | +1,024 | Unincorporated Areas of Burke County, City of Morganton.
| Approximately 0.4 mile upstream of SR 1254 | None | +1,289
Carroll Creek | At the confluence with Parks Creek | None | +1,047 | Unincorporated Areas of Burke County.
| Approximately 1,700 feet upstream of the confluence with Parks Creek | None | +1,055
Catawba River | At the Burke/Catawba County boundary | None | +936 | Unincorporated Areas of Burke County, City of Hickory, City of Morganton, Town of Glen Alpine, Town of Rhodhiss, Town of Rutherford College, Town of Valdese.
| Approximately 2.7 miles upstream of Burke/McDowell County boundary | None | +1,206
Tributary 1 | At the confluence with Catawba River | None | +1,069 | Unincorporated Areas of Burke County.
| Approximately 0.5 mile upstream of SR 1223 | None | +1,094
Tributary 2 | At the confluence with Catawba River | None | +1,206 | Unincorporated Areas of Burke County.
| Approximately 2.8 miles upstream of the confluence with Catawba River | None | +1,236
Clear Creek | Approximately 100 feet upstream of the confluence with Silver Creek | None | +1,046 | Unincorporated Areas of Burke County.
| Approximately 400 feet upstream of U.S. 64 | None | +1,111
Cub Creek | At the confluence with Henry Fork | None | +996 | Unincorporated Areas of Burke County.
| Approximately 1.0 mile upstream of SR 1001 | None | +1,230
Double Branch | At the confluence with McGalliard Creek | None | +1,097 | Unincorporated Areas of Burke County, Town of Valdese.
| Approximately 1,100 feet upstream of SR 1737 | None | +1,231
Tributary 1 | At the confluence with Double Branch | None | +1,110 | Unincorporated Areas of Burke County.
| Approximately 2,000 feet upstream of SR 1722 | None | +1,197
Douglas Creek | Approximately 100 feet downstream of Burke/Catawba County boundary | None | +1,046 | Unincorporated Areas of Burke County.
| Approximately 1,400 feet upstream of Burke/Catawba County boundary | None | +1,064
Drowning Creek | At the confluence with Catawba River | None | +938 | Unincorporated Areas of Burke County.
| Approximately 1.7 miles upstream of SR 1758 | None | +1,527
Tributary 1 | Approximately 800 feet upstream of Wilson Road | None | +1,025 | Town of Hildebran.
| Approximately 1,750 feet upstream of Cline Park Drive | None | +1,103
Tributary 2 | Approximately 0.4 mile downstream of SR 1680 | None | +1,045 | Unicorporated Areas of Burke County.
| Approximately 200 feet downstream of Railroad | None | +1,079
Tributary 2B | At the confluence with Drowning Creek Tributary 2 | None | +1,046 | Unincorporated Areas of Burke County.
| Approximately 150 feet downstream of Railroad | None | +1,077 |
Hall Creek | At the confluence with Silver Creek | None | 1,119 | Unincorporated Areas of Burke County.
| Approximately 2,000 feet upstream of U.S. 64 | None | +1,203 |
Henry Fork | Approximately 200 feet downstream of the Burke/Catawba County boundary | None | +930 | Unincorporated Areas of Burke County.
| Approximately 0.9 mile upstream of SR 1918 | None | +1,422 |
Howard Creek | At the confluence with Catawba River | None | +1,005 | Unincorporated Areas of Burke County, Town of Drexel.
| Approximately 750 feet downstream of SR 1536 | None | +1,009 |
Tributary 1 | Approximately 200 feet upstream of the confluence with Howard Creek | −1,084 | +1,085 | Unicorporated Aeas of Burke County, Town of Drexel.
| Approximately 700 feet upstream of Railroad | None | +1,192 |
Hoyle Creek | At the conference with Catwaba River | None | +1,005 | Unicorporated Areas of Burke County, Town of Rutherford College, town of Valdese.
| Approximately 1,600 feet upstream of the confluence of Micol Creek | None | +1,081
Tributary 1 | At the confluence with Hoyle Creek | None | +1,005 | Unincorporated Areas of Burke County, Town of Rutherford College, Town of Valdese.
| Approximately 0.9 mile upstream of the confluence with Holy Creek | None | +1,164 |
Tributary 2 | At the confluence with Hoyle Creek | None | +1,005 | Unincorporated Areas of Burke County, Town of Rutherford College, Town of Valdese.
| Approximately 0.7 mile upstream of the confluence with Hoyle Creek | None | +1,106
Hunting Creek | At the conference with Catawba River | +1,005 | +1,014 | Unicorporated Areas of Burke County, City of Morganton.
| Approximately 1,050 feet upsteam of SR 2002 | None | +1,149 |
Tributary 2 | Approximately 650 feet upstream of the confluecne with Hunting Creek | None | +1,080 | Unincorporated Areas of Burke County, City of Morganton.
| Approximately 0.7 mile upstream of Walker Road | None | +1,151 |
Tributary 3 | At the confluence with Hunting Creek |  | +1,105 | Unicorporated Areas of Burke County City of Morganton.
| Approximately 0.4 mile upstream of the confluence with Hunting Creek | None | +1,115 |
Irish Creek | At the confluence with Warrior Fork and Upper Creek | None | +1,030 | Unincorporated Areas of Burke County.
| Approximately 900 feet upsteam of the confluence of Reedys Fork Creek | None | −1,146 |
Tributary 1 | At the confluence with Irish Creek | None | +1,108 | Unicorporated Areas of Burke County.
| Approximately 50 feet downstream of SR 1240 | None | +1,227
Island Creek | Approximately 1.0 mile upstream of the confluence with Catawba River | None | +1,005 | Unincorporated Areas of Burke County.
| Approximately 0.9 mile upsteam of I-40 | None | +1,331 | Town of Connelly Springs, Town of Rutherford College.
Jacob Fork | At Burke/Catawba County boundary | None | +1,047 | Unincorporated Areas of Burke County.
| Approximately 400 feet upstream of SR 1904 | None | +1,194
Johns River | At the confluence with Catawba River | +1,004 | +1,013 | Unincorporated Areas of Burke County, City of Morganton.
| At Burke/Caldwell County boundary | None | +1,053 |
Laurel Creek | At the confluence with Henry Fork | None | +1,015 | Unicorporated Areas of Burke County.
| Approximately 1.2 miles upstream of Shouppe Way | None | +1,302 |
Linville River | At the confluence with Catawba River | None | +1,206 | Unicorporated Area of Burke County.
| At Avery/Burke County boundary | None | +3,215 |
Little Silver Creek | Approximately 0.6 mile upstream of Causby Road (SR 1147) | None | +1,115 | Unicorporated Areas of Burke County, City of Morganton, Town of Glen Alpine
| Approximately 1.1 miles upstream of Ceramic Tile Drive | None | +1,126
Lower Creek | At the confluence with Catawba River | None | +1,011 | Unincorporated Areas of Burke County.
| At Burke/Caldwell County boundary | None | +1,028
McGalliard Creek | At the confluence with Catawba River | None | +1,005 | Unincorporated Areas of Burke County, Town of Valdese.
| Approximately 450 feet upstream of SR 1722 | None | +1,212
Tributary 1 | Approximately 300 feet upstream of the confluence with McGalliard Creek | None | +1,062 | Unincorporated Areas of Burke County, Town of Valdese.
| Approximately 1,900 feet upstream of Louise Avenue Northeast | None | +1,232
Tributary 2 | Approximately 100 feet upstream of the confluence with McGalliard Creek | None | +1,089 | Unincorporated Areas of Burke County, Town of Drexel.
| Approximately 650 feet downstream of I-40 | None | +1,250
Tributary 2A | At the confluence with McGalliard Creek Tributary 2 | None | +1,110 | Unincorporated Areas of Burke County, Town of Drexel.
| Approximately 800 feet upstream of Drexel Road | None | +1,164
Tributary 2B | At the confluence with McGalliard Creek Tributary 2 | None | +1,149 | Unincorporated Areas of Burke County, Town of Drexel.
| Approximately 200 feet downstream of SR 1721 | None | +1,205
Micol Creek | At the confluence with Hoyle Creek | None | +1,068 | Unincorporated Areas of Burke County, Town of Valdese.
| Approximately 300 feet downstream of I-40 | None | +1,252
Tributary 1 | At the confluence with Micol Creek | None | +1,117 | Unincorporated Areas of Burke County, Town of Rutherford College, Town of Valdese.
| Approximately 0.5 mile upstream of Montanya View Drive | None | +1,526
Tributary 1A | At the confluence with Micol Creek Tributary 1 | None | +1,165 | Unincorporated Areas of Burke County, Town of Rutherford College, Town of Valdese.
| Approximately 100 feet downstream of SR 1001 | None | +1,229
Tributary 1A1 | At the confluence with Micol Creek Tributary 1A | None | +1,169 | Unincorporated Areas of Burke County, Town of Rutherford College.
| Approximately 1,800 feet upstream of Rutherford College Road | None | +1,229
Muddy Creek | At the confluence with Old Catawba River | None | +1,083 | Unincorporated Areas of Burke County.
| Approximately 0.4 mile upstream of Burke/McDowell County boundary | None | +1,089
Nolden Creek | Approximately 1.0 mile upstream of the confluence with Catawba River | None | +1,004 | Unincorporated Areas of Burke County, Town of Connelly Springs.
| Approximately 0.9 mile upstream of SR 1614 | None | +1,201
Old Catawba River | At the confluence with Catawba River | None | +1,066 | Unincorporated Areas of Burke County.
| At Catawba Dam | None | +1,098
Paddy Creek | At the confluence with Catawba River | None | +1,206 | Unincorporated Areas of Burke County.
| Approximately 2.9 miles upstream of SR 1237 | None | +1,815
Parks Creek | At the confluence with Johns River | None | +1,044 | Unincorporated Areas of Burke County.
| Approximately 100 feet downstream of SR 1405 | None | +1,050
Pearcy Creek | At the confluence with Parks Creek | None | +1,046 | Unincorporated Areas of Burke County.
| Approximately 1.1 miles upstream of SR 1405 | None | +1,154
Tributary 1 | At the confluence with Pearcy Creek | None | +1,077 | Unincorporated Areas of Burke County.
| Approximately 50 feet downstream of SR 1405 | None | +1,116
Reedys Fork Creek | At the confluence with Irish Creek | None | +1,141 | Unincorporated Areas of Burke County.
| Approximately 0.5 mile upstream of the confluence with Irish Creek | None | +1,159
Roses Creek | At the confluence with Irish Creek | None | +1,057 | Unincorporated Areas of Burke County.
| Approximately 0.6 mile upstream of the confluence of Roses Creek Tributary 1 | None | +1,345
Tributary 1 | At the confluence with Roses Creek | None | +1,297 | Unincorporated Areas of Burke County.
| Approximately 0.6 mile upstream of the confluence with Roses Creek | None | +1,382
Russell Creek | At the confluence with Irish Creek | None | +1,115 | Unincorporated Areas of Burke County.
| Approximately 1,550 feet upstream of SR 1241 | None | +1,209
Secrets Creek | Approximately 150 feet upstream of the confluence with Howard Creek | None | +1,011 | Unincorporated Areas of Burke County, Town of Drexel.
| Approximately 0.7 mile upstream of South Main Street | None | +1,213
Silver Creek | At the confluence with Catawba River | +1,022 | +1,023 | Unincorporated Areas of Burke County, City of Morganton.
| Approximately 1,900 feet upstream of U.S. 64 | None | +1,226
Tributary 1 | At the confluence with Silver Creek | +1,022 | +1,023 | City of Morganton.
| Approximately 1,050 feet upstream of Golf Course Road | None | +1,025
Simpson Creek | At the confluence with Roses Creek | None | +1,089 | Unincorporated Areas of Burke County.
| Approximately 1.5 miles upstream of the confluence with Roses Creek | None | +1,185
Smokey Creek | At the confluence with Catawba River | None | +1,006 | Unincorporated Areas of Burke County.
| At Burke/Caldwell County boundary | None | +1,100
Tributary 1 | At the confluence with Smokey Creek | None | +1,043 | Unincorporated Areas of Burke County.
| Approximately 0.4 mile upstream of the confluence with Smokey Creek | None | +1,079
South Muddy Creek | Approximately 1,200 feet downstream of Burke/McDowell County boundary | None | +1,092 | Unincorporated Areas of Burke County.
| At Burke/McDowell County boundary | None | +1,098
Tributary 1 | At Burke/McDowell County boundary | None | +1,121 | Unincorporated Areas of Burke County.
| Approximately 1,000 feet upstream of Burke/McDowell County boundary | None | +1,144
Tims Creek | At the confluence with Henry Fork | None | +977 | Unincorporated Areas of Burke County.
| Approximately 1.6 miles upstream of SR 1786 | None | +1,234
Upper Creek | At the confluence with Warrior Fork and Irish Creek | None | +1,030 | Unincorporated Areas of Burke County.
| Approximately 0.5 mile upstream of SR 1405 | None | +1,093
Warrior Fork | At the confluence with Catawba River | +1,013 | +1,018 | Unincorporated Areas of Burke County, City of Morganton.
| At the confluence of Upper Creek and Irish Creek | None | +1,030
Wilson Creek | At the confluence with Warrior Fork | +1,013 | +1,018 | Unincorporated Areas of Burke County, City of Morganton.
| Approximately 0.7 mile upstream of the confluence with Warrior Fork | +1,017 | +1,018
* National Geodetic Vertical Datum.
# Depth in feet above ground.
+ North American Vertical Datum.
ADDRESSES
City of Hickory
Maps are available for inspection at the Hickory City Hall, 76 North Center Street, Hickory, North Carolina.
Send comments to The Honorable G. Rudy Wright, Jr., Mayor of the City of Hickory, P.O. Box 398, Hickory, North Carolina 28603.
City of Morganton
Maps are available for inspection at the Morganton Town Hall, Community Development Department, 305 East Union Street, Morganton, North Carolina.
Send comments to The Honorable Mel Cohen, Mayor of the City of Morganton, P.O. Box 3448, Morganton, North Carolina 28680-3448.
Town of Connelly Springs
Maps are available for inspection at the Connelly Springs Town Hall, 1030 U.S. Highway 70, Connelly Springs, North Carolina.
Send comments to The Honorable Carl Greene, Mayor of the Town of Connelly Springs, P.O. Box 99, Connelly Springs, North Carolina 28612.
Town of Drexel
Maps are available for inspection at the Drexel Town Hall, 202 Church Street, Drexel, North Carolina.
Send comments to The Honorable Richard E. Propst, Mayor of the Town of Drexel, P.O. Box 1087, Drexel, North Carolina 28619.
Town of Glen Alpine
Maps are available for inspection at the Glen Alpine Town Hall, 103 Pitts Street, Glen Alpine, North Carolina.
Send comments to The Honorable Christine Abernathy, Mayor of the Town of Glen Alpine, P.O. Box 898, Glen Alpine, North Carolina 28628.
Town of Hildebran
Maps are available for inspection at the Hildebran Town Hall, 202 South Center Street, Hildebran, North Carolina.
Send comments to The Honorable Albert L. Parkhurst, Mayor of the Town of Hildebran, P.O. Box 87, Hildebran, North Carolina 28637.
Town of Rhodhiss
Maps are available for inspection at the Rhodhiss Town Hall, 200 Burke Street, Rhodhiss, North Carolina.
Send comments to The Honorable Jimmy Wilson, Mayor of the Town of Rhodhiss, P.O. Box 40, Rhodhiss, North Carolina 28667.
Town of Rutherford College
Maps are available for inspection at the Rutherford College Town Hall, 950 Malcolm Boulevard, Rutherford College, North Carolina.
Send comments to The Honorable Jim Hoffman, Sr., Mayor of the Town of Rutherford College, P.O. Box 406, Rutherford College, North Carolina 28671.
Town of Valdese
Maps are available for inspection at the Valdese Town Hall, 121 Faet Street, Valdese, North Carolina.
Send comments to The Honorable James Hatley, Mayor of the Town of Valdese, P.O. Box 339, Valdese, North Carolina 28690.
Unincorporated Areas of Burke County
Maps are available for inspection at the Burke County Planning and Development Department, 110 North Green Street, Morganton, North Carolina.
Send comments to Mr. Ron Lewis, Burke County Manager, P.O. Box 219, Morganton, North Carolina 28680.

(Catalog of Federal Domestic Assistance No. 83.100, “Flood Insurance.”)

Dated: October 4, 2006.
David I. Maurstad,
Director, Mitigation Division, Federal Emergency Management Agency, Department of Homeland Security.

[FR Doc. E6-17254 Filed 10-16-06; 8:45 am]

BILLING CODE 9110-12-P